OFFICE OF PERSONNEL MANAGEMENT

Submission for Review: 3206-0136, Designation of Beneficiary: Federal Employees' Group Life Insurance, SF 2823

AGENCY: U.S. Office of Personnel Management.

ACTION: 30-Day Notice and request for comments.

SUMMARY: The Federal Employee Insurance Operations, Healthcare Insurance, Office of Personnel Management (OPM) offers the general public and other Federal agencies the opportunity to comment on a revised information collection request, Designation of Beneficiary: Federal Employees' Group Life Insurance, SF 2823.

DATES: Comments are encouraged and will be accepted until November 6, 2020.

ADDRESSES: Interested persons are invited to submit written comments on the proposed information collection to the Office of Information and Regulatory Affairs, Office of Management and Budget, 725 17th Street NW, Washington, DC 20503, Attention: Desk Officer for the Office of Personnel Management or sent via electronic mail to: oira_submission@omb.eop.gov or faxed to (202) 395-6974.

SUPPLEMENTARY INFORMATION: As required by the Paperwork Reduction Act of 1995 OPM is soliciting comments for this collection. The information collection (OMB No. 3206-0136) was previously published in the Federal Register on March 9, 2020 at 85 FR 13678, allowing for a 60-day public comment period. A comment was received for this collection. In response, per FEGLI law and regulation, employees are not allowed to use electronic signatures or PIV/CAC cards to sign the SF 2823 (Designation of Beneficiary) form. Per 5 CFR 870.802(b), a designation of a beneficiary must be completed in writing, signed by the insured individual, and witnessed and signed by two people. OPM is currently working on guidance for agency human resources personnel to allow more flexibility to certify FEGLI forms. Any changes to the process would be temporary. However, no changes can be made to the Designation of Beneficiary form's signature requirement, as any change to this form would require a change to FEGLI law. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 2823 is used by any Federal employee or retiree covered by the Federal Employees' Group Life Insurance (FEGLI) Program, or an assignee who owns an insured's coverage, to instruct the Office of Federal Employees' Group Life Insurance how to distribute the proceeds of the FEGLI coverage when the statutory order of precedence does not meet his or her needs.

Analysis

Agency: Federal Employee Insurance Operations, Healthcare Insurance, OPM.

Title: Designation of Beneficiary: Federal Employees' Group Life Insurance.

OMB Number: 3206-0136.

Frequency: On occasion.

Affected Public: Individuals or Households.

Number of Respondents: 48,000.

Estimated Time per Respondent: 15 minutes.

Total Burden Hours: 12,000.

Office of Personnel Management.
Stephen Hickman,
Deputy Executive Secretary.

[FR Doc. 2020-22153 Filed 10-6-20; 8:45 am]

BILLING CODE 6325-38-P